DEPARTMENT OF THE INTERIOR

National Park Service

[NPS-WASO-NRSS-0112-9361; 8542-1003-IZF]

Information Collection Activities: Assessment Tools for Park-Based Youth Education and Employment Experience Programs

AGENCY: National Park Service (NPS), Interior.

ACTION: Notice; request for comments.

SUMMARY: We (National Park Service) will ask the Office of Management and Budget (OMB) to approve the Information Collection (IC) described below. This collection will consist of 9 separate survey instruments. As required by the Paperwork Reduction Act of 1995, and as part of our continuing efforts to reduce paperwork and respondent burden, we invite the general public and other Federal agencies to take this opportunity to comment on this IC.

DATES: To ensure that your comments on this IC are considered, we must receive them on or before March 30, 2012.

ADDRESSES: Please send your comments to Phadrea Ponds, Information Collections Coordinator, National Park Service, 1201 Oakridge Drive, Fort Collins, CO 80525 (mail); or phadrea_ponds@nps.gov (email). Please reference Information Collection 1024-NEW, SAMO Assessment in the subject line.

FOR FURTHER INFORMATION CONTACT: Antonio Solorio at Antonio_Solorio@nps.gov (email); or by mail at Santa Monica Mountains National Recreation Area, 401 W. Hillcrest Drive; Thousand Oaks, CA 91360.

I. Abstract

The Santa Monica Mountains National Recreation Area (SAMO) has three programs that provide continuous education and employment experience opportunities for diverse students in the vicinity of the park. We use a series of surveys to objectively evaluate the short and long-term success of these programs in shaping students' attitudes toward conservation, their recreational choices, and their career interests. Areas of interest include: (1) Understanding and concern for natural and cultural resource conservation and stewardship and resulting behavior changes both inside and outside parks; (2) Awareness and feelings toward the National Park Service; (3) Recreational interests and activities; (4) Influences on family and friends' attitudes and behaviors; (5) Education and career choices; and (6) Usefulness of work experience.

The SHRUB program provides education and in-depth involvement for students and their families in grade school. The EcoHelpers program provides one-day service learning programs to high school students. The SAMO Youth program provides progressive integrated work experience for high school and college students. While SAMO has many observational and anecdotal indications of success, no formal tools have been developed to evaluate these programs. The goal of this collection is to provide scientifically sound and reliable measures of outcomes for the three youth education and employment experience programs at SAMO. This assessment will be used to build the capacity of park youth program managers to help the park achieve its goal of continual program improvement and expanded documentation of program impact.

II. Data

OMB Control Number: 1024-NEW.

Title: Assessment Tools for Park-Based Youth Education and Employment Experience Programs.

Type of Request: This is a new collection.

Affected Public: General Public; College students, school aged children (elementary, middle and high school), and teachers.

Respondent Obligation: Voluntary.

Frequency of Collection: One-time.

Estimated Number of Annual Responses: 573.

| EcoHelpers | SHRUBS | SAMO Youth program | Total
Teachers | 15 | 3 | 0 | 18
Students | 340 | 135 | 80 | 555

Annual Burden Hours: 239 hours. We expect to receive 573 annual responses. We estimate an average of 25 minutes per response (5 minutes for the initial contact and 20 minutes to complete the survey instrument).

| EcoHelpers | SHRUBS | SAMO Youth program | Total
Annual Burden Hours | 148 | 58 | 33 | 239

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

We invite comments concerning this IC on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time.

While you can ask OMB in your comment to withhold your personal identifying information from public review, we cannot guarantee that it will be done.

Dated: January 24, 2012.
Catherine E. Burdett,
Acting Program Manager, Washington Administrative Program Center, National Park Service.

[FR Doc. 2012-1925 Filed 1-27-12; 8:45 am]

BILLING CODE 4312-52-P